DEPARTMENT OF HOMELAND SECURITY

Coast Guard

33 CFR Part 165

[CCGD05-06-059]

RIN 1625-AA00

Safety Zone; Route 33 Bridge Construction, Pamunkey River, West Point, VA

AGENCY: Coast Guard, DHS.

ACTION: Temporary final rule.

SUMMARY: The Coast Guard is establishing a temporary 600-foot radius safety zone in support of bridge construction operations being conducted in the vicinity of the Route 33 Bridge (Eltham Bridge) over the Pumunkey River near the Town of West Point, VA. This action is intended to restrict vessel traffic on the Pamunkey River as necessary to protect mariners from the hazards associated with bridge construction operations.

DATES: This safety zone will be in effect from August 15 to August 20, 2006, and from September 12 to September 17, 2006.

ADDRESSES: Documents indicated in this preamble as being available in the docket are part of docket CGD05-06-059 and are available for inspection or copying at Sector Hampton Roads, Prevention Department, Norfolk Federal Building, 200 Granby Street, Suite 700, Norfolk, VA 23510, between 9:30 a.m. and 2 p.m., Monday through Friday, except on Federal holidays.

FOR FURTHER INFORMATION CONTACT: LT Bill Clark, project officer, USCG Sector Hampton Roads, telephone number (757) 668-5580.

SUPPLEMENTARY INFORMATION:

Regulatory Information

We did not publish a notice of proposed rulemaking (NPRM) for this regulation. Under 5 U.S.C. 553(b)(B), the Coast Guard finds that good cause exists for not publishing an NPRM because it is impracticable and contrary to the public interest to delay the effective date of this rule. The project will begin at 6:30 a.m. eastern time on August 15, 2006 and end at 6:30 a.m. eastern time on August 20, 2006, then commence again at 6:30 a.m. on September 12, and end at 6:30 a.m. on September 17, 2006. Due to the dangers posed by the bridge construction operations, it is in the public's interest to have these regulations in effect during those operations.

For the same reasons, the Coast Guard also finds that good cause exists under 5 U.S.C. 553(d)(3) for making this rule effective less than 30 days after publication in the Federal Register. Because of the hazards associated with the construction operations, a limited access area is necessary to provide for the safety of mariners.

Background and Purpose

Bridge construction operations will be conducted on the center span portion of a new bridge being constructed approximately 100 feet south of the Route 33 Bridge (Eltham Bridge) near West Point, VA. These operations will commence at 6:30 a.m. on August 15, 2006 and end at 6:30 a.m. on August 20, 2006, then commence again at 6:30 a.m. on September 12, and end at 6:30 a.m. on September 17, 2006. To facilitate the bridge construction operations while protecting mariners and spectators from the associated hazards, a 600-foot radius safety zone centered on position 37-32-01 N / 076-48-21 W will be established during the bridge construction operations.

Discussion of Proposed Rule

The Coast Guard is establishing a safety zone that encompasses all waters within 600 feet of position 37-32-01 N/076-48-21 W in the vicinity of West Point, VA. This safety zone will be established in the interest of public safety during the bridge construction operations and will be effective from 6:30 a.m. on August 15, 2006 until 6:30 a.m. on August 20, 2006, then again from 6:30 a.m. on September 12, 2006 until 6:30 a.m. on September 17, 2006. General navigation in the safety zone will be restricted. Except for participants and vessels authorized by the Captain of the Port's designated representative, no person or vessel may enter or remain in the regulated area.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This determination is based on the fact that the safety zone is only enforced for a limited duration and vessel traffic can safely pass outside the safety zone during the operation.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C, 605(b) that this rule will not have a significant economic impact on a substantial number of small entities. This rule will affect the following entities, some of which may be small entities: the owners and operators of vessels intending to transit or anchor in that portion of the Pamunkey River between 6:30 a.m. on August 15 to 6:30 a.m. on August 20, 2006 and between 6:30 a.m. on September 12, 2006 to 6:30 a.m. on September 17, 2006. For the reasons described in Regulatory Evaluation, above, the safety zone will not have a significant impact on a substantial number of small entities; maritime advisories will be issued, so the mariners can adjust their plans accordingly.

Assistance for Small Entities

Under section 213(a) of the Small Business Regulatory Enforcement Fairness Act of 1996 (Pub. L. 104-121), we want to assist small entities in understanding the rule so that they can better evaluate its effects on them and participate in the rulemaking process. If the rule will affect your small business, organization, or government jurisdiction and you have questions concerning its provisions or options for compliance, please contact the person listed under FOR FURTHER INFORMATION CONTACT for assistance in understanding this rule.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.1, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. A final “Environmental Analysis Checklist” and a final “Categorical Exclusion Determination” will be available in the docket.

List of Subjects in 33 CFR Part 165

Harbors, Marine Safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6 and 160.5; Pub. L. 107-295, 116 Stat. 2064; Department of Homeland Security Delegation No. 0170.1.

2. Add temporary § 165.T05-059, to read as follows:

§ 165.T05-059 Route 33 Bridge Construction, Pamunkey River, West Point, VA.

(a) Location. The following area is a safety zone: All waters of the Pamunkey River, from surface to bottom, within 600 feet of position 37-32-01 N/076-48-21 W in the vicinity of West Point, VA.

(b) Definition. For purposes of this section, designated representative means any U.S. Coast Guard commissioned, warrant or petty officer who has been authorized by the Captain of the Port, Hampton Roads, Virginia to act on his behalf.

(c) Regulations. (1) In accordance with the general regulations in 165.23 of this part, entry into this safety zone is prohibited unless authorized by the Captain of the Port, Hampton Roads or his designated representatives.

(2) The operator of any vessel in the immediate vicinity of this safety zone must comply with all directions given by the COTP or the COTP's designated representative.

(3) The Captain of the Port, Hampton Roads and the Sector Duty Officer at Sector Hampton Roads in Portsmouth, Virginia can be contacted at telephone number (757) 668-5555 or (757) 484-8192.

(4) The Designated Representatives enforcing the safety zone can be contacted on VHF-FM 13 and 16.

(d) Effective date: This regulation is effective from 6:30 a.m. on August 15, 2006 until 6:30 a.m. on August 20, 2006 and from 6:30 a.m. September 12, 2006 until 6:30 a.m. on September 17, 2006.

Dated: August 4, 2006.
Patrick B. Trapp,
Captain, U.S. Coast Guard, Captain of the Port, Hampton Roads.

[FR Doc. E6-13798 Filed 8-18-06; 8:45 am]

BILLING CODE 4910-15-P